DEPARTMENT OF TRANSPORTATION

National Highway Traffic Safety Administration

49 CFR Part 571

Federal Motor Vehicle Safety Standards

CFR Correction

This rule is being published by the Office of the Federal Register to correct an editorial or technical error that appeared in the most recent annual revision of the Code of Federal Regulations.

In Title 49 of the Code of Federal Regulations, Parts 400 to 571, revised as of October 1, 2021, in § 571.108, remove S5.1 and S5.2.

[FR Doc. 2022-03043 Filed 2-10-22; 8:45 am]

BILLING CODE 0099-10-D